INTERNATIONAL TRADE COMMISSION

[Investigation Nos. 731-TA-1124 and 1125 (Final)]

Electrolytic Manganese Dioxide From Australia and China

Determinations

On the basis of the record ¹ developed in the subject investigations, the United States International Trade Commission (Commission) determines, pursuant to section 735(b) of the Tariff Act of 1930 (19 U.S.C. 1673d(b)) (the Act), that an industry in the United States is materially injured by reason of imports from Australia and China of electrolytic manganese dioxide (“EMD”), provided for in subheading 2820.10.00 of the Harmonized Tariff Schedule of the United States, that have been found by the Department of Commerce (Commerce) to be sold in the United States at less than fair value (LTFV).

¹ The record is defined in sec. 207.2(f) of the Commission's Rules of Practice and Procedure (19 CFR 207.2(f)).

Background

The Commission instituted these investigations effective August 22, 2007, following receipt of a petition filed with the Commission and Commerce by Tronox LLC, Oklahoma City, OK. The final phase of the investigations was scheduled by the Commission following notification of preliminary determinations by Commerce that imports of EMD from Australia and China were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of April 30, 2008 (73 FR 23491). The hearing was held in Washington, DC, on July 24, 2008, and all persons who requested the opportunity were permitted to appear in person or by counsel.

The Commission transmitted its determinations in these investigations to the Secretary of Commerce on September 25, 2008. The views of the Commission are contained in USITC Publication 4036 (September 2008), entitled Electrolytic Manganese Dioxide from Australia and China: Investigation Nos. 731-TA-1124 and 1125 (Final).

Issued: October 7, 2008.
By order of the Commission.
Marilyn R. Abbott,
Secretary to the Commission.

[FR Doc. E8-24127 Filed 10-9-08; 8:45 am]

BILLING CODE 7020-02-P